DEPARTMENT OF DEFENSE

Office of the Secretary

Senior Executive Service Performance Review Board

AGENCY: Office of the Inspector General of the Department of Defense.

ACTION: Notice.

SUMMARY: This notice announces the appointment of the members of the Senior Executive Service (SES) Performance Review Board (PRB) for the Office of the Inspector General of the Department of Defense (OIG DoD), as required by 5 U.S.C. 4314(c)(4). The PRB provides fair and impartial review of SES performance appraisals and makes recommendations regarding performance ratings and performance awards to the Inspector General.

EFFECTIVE DATE: August 23, 2004.

FOR FURTHER INFORMATION CONTACT: Mr. Michael Peterson, Director, Human Capital Management Directorate, Office of the Chief of Staff, OIG DoD, 400 Army Navy Drive, Arlington, VA 22202, (703) 602-4516.

SUPPLEMENTARY INFORMATION: In accordance with 5 U.S.C. 4314(c)(4), the following executives are appointed to the OIG DoD, PRB:

Charles W. Beardall, Director, Defense Criminal Investigative Service, ODIG-Investigations

Patricia A. Brannin, Assistant Inspector General for Audit Policy and Oversight, ODIG-Inspections and Policy

Thomas F. Gimble, Deputy Inspector General for Intelligence

Paul J. Granetto, Director, Defense Financial Auditing Service, ODIG-Auditing

Louis J. Hansen, Deputy Inspector General for Inspections and Policy

Richard T. Race, Deputy Inspector General for Investigations

Francis E. Reardon, Deputy Inspector General for Auditing

David K. Steensma, Director, Contract Management, ODIG-Auditing

Shelton R. Young, Director, Readiness and Logistics Support, ODIG-Auditing

Dated: August 17, 2004.
L.M. Bynum,
Alternate OSD Federal Register Liaison Officer, Department of Defense.

[FR Doc. 04-19182 Filed 8-19-04; 8:45 am]

BILLING CODE 5001-06-M